DEPARTMENT OF HEALTH AND HUMAN SERVICES

Centers for Disease Control and Prevention

National Center for Injury Prevention and Control/Initial Review Group, (NCIPC/IRG)

Correction: This notice was published in the Federal Register on February 1, 2010, Volume 75, Number 20, pages 5089-5090. The notice should read as follows:

NCIPC/IRG Workgroup: Preventing Unintentional Childhood Injuries (R21), Funding Opportunity Announcement CE10-001.

In accordance with section 10(a)(2) of the Federal Advisory Committee Act (Pub. L. 92-463), the Centers for Disease Control and Prevention (CDC), announces the following meeting of the aforementioned review group:

Time and Date: 12:30 p.m.—4 p.m., February 16, 2010 (Closed).

Place: Teleconference.

Status: This meeting was closed to the public in accordance with provisions set forth in 41 CFR part 102 of the General Services Administration Federal Advisory Committee Management Final Rule.

Matters To Be Discussed: The meeting included the review, discussion, and evaluation of cooperative agreement applications submitted in response to Fiscal Year 2010 Requests for Applications related to the following individual research announcement: CE10-001.

Agenda items are subject to change as priorities dictate.

For Further Information Contact: J. Felix Rogers, PhD, M.P.H., Telephone (770)488-4334, NCIPC/ERPO, CDC, 4770 Buford Highway, NE., M/S F63, Atlanta, Georgia 30341-3724.

The Director, Management Analysis and Services Office, has been delegated the authority to sign Federal Register notices pertaining to announcements of meetings and other committee management activities, for both CDC and the Agency for Toxic Substances and Disease Registry.

Dated: June 8, 2010.
Elaine L. Baker,
Director, Management Analysis and Services Office, Centers for Disease Control and Prevention.

[FR Doc. 2010-14622 Filed 6-16-10; 8:45 am]

BILLING CODE 4163-18-P